AGENCY FOR INTERNATIONAL DEVELOPMENT

Board for International Food and Agricultural Development

One Hundred and Forty-Third Meeting; Notice of Meeting

Pursuant to the Federal Advisory Committee Act, notice is hereby given of the one hundred and forty-third meeting of the Board for International Food and Agricultural Development (BIFAD). The meeting will be held from 8 a.m. to 1 p.m. on February 3rd, 2005 at the National Association of State Universities and Land Grant Colleges (NASULGC), 1307 New York Avenue, NW., Washington, DC (13th & H St.).

The BIFAD will address an agenda focusing on future directions of international agriculture development programs, priorities for implementing and monitoring USAID's new Agricultural Strategy, better linkages with the private sector, items dealing with the Collaborative Research Support Programs (CRSPs), better integration of Title XII Legislation within programs, and other items of general interest.

The meeting is free and open to the public. Those wishing to attend the meeting or obtain additional information about BIFAD should contact John Swanson, the Designated Federal Officer for BIFAD. Write him in care of the U.S. Agency for International Development, Ronald Reagan Building, Office of Agriculture and Food Security, 1300 Pennsylvania Avenue, NW., Room 2.11-06, Washington, DC 20523-2110 or telephone him at (202) 712-5602 or fax (202) 216-3010.

Dated: January 13, 2005.
John Swanson,
USAID Designated Federal Officer for BIFAD, Office of Agriculture and Food Security, Bureau for Economic Growth, Agriculture & Trade.

[FR Doc. 05-1241 Filed 1-21-05; 8:45 am]

BILLING CODE 6116-01-M